DEPARTMENT OF THE INTERIOR

Bureau of Land Management

[LLWO260000.L10600000.PC0000]

Renewal of Approved Information Collection, OMB Control Number 1004-0042

AGENCY: Bureau of Land Management, Interior.

ACTION: 60-day notice and request for comments.

SUMMARY: In compliance with the Paperwork Reduction Act of 1995, the Bureau of Land Management (BLM) announces its intention to request that the Office of Management and Budget (OMB) renew OMB Control Number 1004-0042 for the paperwork requirements in 43 CFR part 4700, which pertain to the protection, management, and control of wild free-roaming horses and burros.

DATES: Please submit your comments to the BLM at the address below on or before August 27, 2010.

ADDRESSES: You may mail comments to: U.S. Department of the Interior, Bureau of Land Management, Mail Stop 401-LS, 1849 C St., NW., Washington, DC 20240, Attention: 1004-0042. You may also comment by e-mail at: Jean_Sonneman@blm.gov.

FOR FURTHER INFORMATION CONTACT: You may contact Bea Wade at 775-861-6625. Persons who use a telecommunication device for the deaf (TDD) may call the Federal Information Relay Service (FIRS) at 1-800-877-8339, to contact Ms. Wade. You may also contact Ms. Wade to obtain a copy, at no cost, of the regulations and the form pertaining to this collection of information.

SUPPLEMENTARY INFORMATION: OMB regulations at 5 CFR 1320, which implement provisions of the Paperwork Reduction Act (44 U.S.C. 3501-3521), require that interested members of the public and affected agencies be provided an opportunity to comment on information collection and recordkeeping activities (see 5 CFR 1320.8(d) and 1320.12(a)). This notice identifies information collections that are contained in 43 CFR part 4700. The BLM will request that the OMB approve this information collection activity for a 3-year term.

Comments are invited on: (1) The need for the collection of information for the performance of the functions of the agency; (2) the accuracy of the agency's burden estimates; (3) ways to enhance the quality, utility, and clarity of the information collection; and (4) ways to minimize the information collection burden on respondents, such as use of automated means of collection of the information. A summary of the public comments will accompany the BLM's submission of the information collection requests to OMB.

The following information is provided for the information collection:

Title: Protection, Management, and Control of Wild Free-Roaming Horses and Burros (43 CFR Part 4700).

Form:

• Form 4710-10, Application for Adoption of Wild Horse(s) or Burro(s).

OMB Control Number: 1004-0042.

Abstract: This notice pertains to the collection of information that is necessary to administer its adoption program for wild horses and burros. The BLM uses the information to determine if applicants are qualified to provide humane care and proper treatment to wild horses and burros.

Frequency: On occasion.

Currently Approved Number and Description of Respondents: 14,000 applicants for private maintenance (including 12 seeking authorization for private maintenance of more than 4 wild horses or burros), 320 applicants to terminate a Private Maintenance and Care Agreement, and 120 applicants for replacement animals.

Currently Approved Reporting and Recordkeeping “Hour” Burden: 14,440 responses and 7,222 hours.

Currently Approved Reporting and Recordkeeping “Non-Hour Cost” Burden: $7,200.

The Paperwork Reduction Act provides that an agency may not conduct or sponsor a collection of information unless it displays a currently valid OMB control number. Until OMB approves a collection of information, you are not obligated to respond. 44 U.S.C. 3506 and 3507.

The BLM will summarize all responses to this notice and include them in the request for OMB approval. All comments will become a matter of public record. Before including your address, phone number, email address, or other personal identifying information in your comment, you should be aware that your entire comment — including your personal identifying information — may be made publicly available at any time. While you can ask us in your comment to withhold your personal identifying information from public review, we cannot guarantee that we will be able to do so.

Jean Sonneman,
Acting Information Collection Clearance Officer.

[FR Doc. 2010-15620 Filed 6-25-10; 8:45 am]

BILLING CODE 4310-84-P